INTERNATIONAL BOUNDARY AND WATER COMMISSION, UNITED STATES AND MEXICO

United States Section; Final Programmatic Environmental Impact Statement for Improvements to the USIBWC Tijuana River Flood Control Project in San Diego County, CA

AGENCY: United States Section, International Boundary and Water Commission (USIBWC).

ACTION: Notice of Availability for the Record of Decision (ROD).

SUMMARY: This notice is provided in accordance with 40 Code of Federal Regulations (CFR) parts 1500-1508 of the National Environmental Policy Act (NEPA), and USIBWC procedures for implementing NEPA. The USIBWC anticipates the need to improve maintenance practices or functionality of the Tijuana River Flood Control Project (Tijuana River FCP) located in southern San Diego County, California. Measures under consideration include changes in vegetation management within the floodway, water quality improvements, and support to local or regional initiatives for multipurpose use of the project for wildlife habitat development and other environmental improvements. Identified measures were incorporated into a Multipurpose Project Management (MPM) Alternative for long-term improvement of the Tijuana River FCP.

A Programmatic Environmental Impact Statement (PEIS) was prepared to evaluate potential consequences of changes associated with the MPM Alternative relative to the continuation of current operation and maintenance (O&M) activities (No Action Alternative). The USIBWC will apply this programmatic evaluation as a guideline for the environmental impacts assessment of future individual projects considered possible at a conceptual level, but not currently anticipated for implementation. Following the programmatic evaluation of potential impacts, the MPM Alternative was adopted as the preferred option for long-term improvements to the Tijuana River FCP. In implementing this alternative, the USIBWC will continue to improve functionality of the Tijuana River FCP to meet its mandate for flood control while supporting regional initiatives for improvement of water quality and environmental conditions.

FOR FURTHER INFORMATION CONTACT: Mr. Daniel Borunda, Environmental Protection Specialist, Environmental Management Division, USIBWC, 4171 North Mesa Street, C-100, El Paso, Texas 79902 or e-mail: danielborunda@ibwc.gov.

SUPPLEMENTARY INFORMATION: The USIBWC operates and maintains the Tijuana River FCP located in southern San Diego County, California. The flood control project, constructed in 1978, provides flood protection in urban, suburban, and agricultural areas in the United States. It consists of a two-levee system that runs along a modified stream channel 2.3 miles long, extending from the international border to the start of the natural Tijuana River channel. The floodway between the levees encompasses approximately 400 acres. The Tijuana River FCP is located upstream of natural resources conservation areas managed by the County of San Diego, State of California, and U.S. Fish and Wildlife Service. These conservation areas are of great regional value as they contain a diversified plant and animal species assemblage that includes many protected animal and plant species.

The USIBWC anticipates a need for improvements in O&M practices of the Tijuana River FCP. Potential changes would include measures to support local and/or regional initiatives to improve environmental conditions and/or water quality, incorporated into the MPM Alternative. Most improvements are conceptual-level measures considered feasible but not currently envisioned for implementation. Known or anticipated improvements are typically associated with utilization of the flood control project in support of local or regional initiatives for multipurpose use of the Tijuana River FCP for wildlife habitat development and other improvements in environmental conditions.

A PEIS was prepared to assess potential consequences of implementing new maintenance practices and improvements that would allow USIBWC to meet its mandate for flood protection while minimizing potential impacts and taking advantage of environmental improvement opportunities. Potential consequences of the MPM Alternative were evaluated relative to the No Action Alternative, which is continuation of current O&M activities. A Draft PEIS was released for a 45-day public review period on August 10, 2007. Comments on the Draft PEIS were received from four federal agencies, four California State agencies, the County of San Diego, the City of Imperial Beach, and two individual reviewers. Oral comments were also received from three presenters during a public hearing held in the City of Imperial Beach, California on August 30, 2007. The Notice of Availability of the Final PEIS was published in the Federal Register on May 14, 2008.

Finding: Because of its potential to improve biological resources and environmental conditions, the MPM Alternative was identified as the preferred option for long-term improvement to the Tijuana River FCP. In implementing the MPM Alternative, the USIBWC will continue to improve functionality and maintenance of the Tijuana River FCP to meet its mandate for flood control while supporting regional initiatives for improvement of environmental conditions, including improved water quality and wildlife habitat development, both within the floodway and downstream from the Tijuana River FCP.

Availability: Copies of the Record of Decision may be obtained by request at the above address. Electronic copies may also be obtained from the USIBWC Home Page at: http://www.ibwc.gov.

Dated: July 10, 2008.
Susan Daniel,
General Counsel.

[FR Doc. E8-16219 Filed 7-15-08; 8:45 am]

BILLING CODE 7010-01-P